DEPARTMENT OF THE INTERIOR

Bureau of Indian Affairs

[167 A2100DD/AAKC001030/A0A501010.999900]

Indian Gaming; Tribal-State Class III Gaming Compact Taking Effect in the State of New Mexico

AGENCY: Bureau of Indian Affairs, Interior.

ACTION: Notice.

SUMMARY: The Pueblo of Sandia and State of New Mexico entered into a Tribal-State compact governing Class III gaming; this notice announces that the compact is taking effect.

DATES: Effective April 4, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts are subject to review and approval by the Secretary under 25 CFR 293.4. The Secretary took no action on the Pueblo of Sandia-State of New Mexico compact within 45 days of its submission. Therefore, the compact is considered to have been approved, but only to the extent the compact is consistent with IGRA. See 25 U.S.C. 2710(d)(8)(C).

Dated: March 17, 2016.
Lawrence S. Roberts,
Acting Assistant Secretary—Indian Affairs.

[FR Doc. 2016-07622 Filed 4-1-16; 8:45 am]

BILLING CODE 4337-15-P